DEPARTMENT OF ENERGY

Federal Energy Regulatory Commission

Notice of Membership of Performance Review Board

April 26, 2001.

The Federal Energy Regulatory Commission hereby provides notice of the membership of its Performance Review Board (PRB). This action is undertaken in accordance with Title 5, U.S.C., Section 4314(c)(4). The Commission's PRB will be comprised of the following members:

Thomas R. Herlihy

Daniel L. Larcamp

Cynthia A. Marlette

David P. Boergers,
Secretary.

[FR Doc. 01-10781 Filed 4-30-01; 8:45 am]

BILLING CODE 6717-01-M